DEPARTMENT OF HOUSING AND URBAN DEVELOPMENT

[Docket No. FR-5610-N-14]

Notice of Proposed Information Collection for Public Comment; Rental Assistance Demonstration (RAD): Supporting Contracts and Processing Requirements

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

The Rental Assistance Demonstration allows Public Housing and Moderate Rehabilitation (Mod Rehab) properties to convert to long-term Section 8 rental assistance contracts; and Rent Supplement (Rent Supp), Rental Assistance Payment (RAP) and Mod Rehab properties upon contract expiration or termination, to convert Tenant Protection Vouchers (TPVs) to Project Based Vouchers (PBVs). Participation in the initiative will be voluntary; the attached supporting contracts and processing requirements will be used to process and complete the conversion process for Public Housing, Mod Rehab, Rent Supp and RAP.

DATES: Comment Due Date: October 15, 2012.

ADDRESSES: Interested persons are invited to submit comments regarding this proposed information collection. Comments should refer to the proposal by name/or OMB Control number and should be sent to: Colette Pollard., Departmental Reports Management Officer, QDAM, Department of Housing and Urban Development, 451 7th Street SW., Room 4160, Washington, DC 20410-5000; telephone 202-402-3400 (this is not a toll-free number) or email Ms. Pollard at Colette_Pollard@hud.gov. Persons with hearing or speech impairments may access this number through TTY by calling the toll-free Federal Information Relay Service at (800) 877-8339. (Other than the HUD USER information line and TTY numbers, telephone numbers are not toll-free.)

FOR FURTHER INFORMATION CONTACT: Arlette Mussington, Office of Policy, Programs and Legislative Initiatives, PIH, Department of Housing and Urban Development, 451 7th Street SW., (L'Enfant Plaza, Room 2206), Washington, DC 20410; telephone 202-402-4109, (this is not a toll-free number). Persons with hearing or speech impairments may access this number via TTY by calling the Federal Information Relay Service at (800) 877-8339.

SUPPLEMENTARY INFORMATION: The Department will submit the proposed information collection to OMB for review, as required by the Paperwork Reduction Act of 1995 (44 U.S.C. Chapter 35, as amended). This Notice is submitting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility and clarity of information to be collected; and, (4) minimize the burden of the collection of information on those who are to respond, including through the use of appropriate automated collection techniques or other forms of information technology; e.g. permitting electronic submission of responses.

This Notice also lists the following information:

Title of Proposal: Rental Assistance Demonstration (RAD) Application Forms.

OMB Control Number: 2577-0276.

Description of the need for the information and proposed use: The Rental Assistance Demonstration allows Public Housing and Moderate Rehabilitation (Mod Rehab) properties to convert to long- term Section 8 rental assistance contracts; and Rent Supplement (Rent Supp), Rental Assistance Payment (RAP), and Mod Rehab properties, upon contract expiration or termination, to convert tenant protection vouchers (TPVs) to project-based vouchers (PBVs). Participation in the initiative will be voluntary. Public Housing Agencies, Mod Rehab owners interested in participating in the Demonstration are required to submit supplementary documentation through these processing requirements to HUD so that HUD can determine throughout the conversion process the physical and financial sustainability of properties. As such, the processing requirements will demonstrate to HUD that the applicant will be able to leverage private financing to address immediate and long-term capital needs, improve operations, and implement energy efficiency improvements. The processing information request will be in a Web-based portal and will be pre-populated with data HUD is collecting from the RAD Application, which is currently undergoing its 30 day review under cover of a separate PRA. Overall, supplementary documentation and information requested will allow the Department to determine which applicants continue to meet the eligibility requirements and have the capacity to successfully meet RAD's mission delineated in PIH Notice PIH-2012-32: Rental Assistance Demonstration—Final Implementation Notice. Finally, all applicants will be required to sign the appropriate contractual documents to complete conversion and bind both the applicant and HUD, as well as set forth the rights and duties of the applicant and HUD, with respect to the converted project and any payments under that project. This requirement is for all applicants in the Public Housing, Mod Rehab, Rent Supp and RAP programs.

To review draft versions of the processing requirements and the contractual documentation please visit the RAD Web site: www.hud.gov/rad/.

Agency form number(s), if applicable:

Members of affected public: State, Local or Tribal Government.

Estimation of the total number of hours needed to prepare the information collection including respondents: The estimated number of respondents is 2,539 annually that have only one response per respondent. 605 respondents will have 9 responses annually until conversion is complete to total 5,445 responses. The average number for each response to each document in the information collection is 1 hour, for a total burden of 7,379.

Status of the proposed information collection: New Collection.

Authority: Section 3506 of the Paperwork Reduction Act of 1995, 44 U.S.C. Chapter 35, as amended.

Dated: August 8, 2012.
Debra Gross,
Deputy Assistant Secretary for the Office of Policy, Program and Legislative Initiatives.

[FR Doc. 2012-19962 Filed 8-14-12; 8:45 am]

BILLING CODE 4210-67-P